DEPARTMENT OF ENERGY

Federal Energy Regulatory Commission

[Docket No. CP07-48-000]

Kinder Morgan Interstate Gas Transmission LLC; Notice of Application

December 28, 2006.

Take notice that on December 20, 2006, Kinder Morgan Interstate Gas Transmission LLC (KMIGT), 370 Van Gordon Street, Lakewood, Colorado 80228-8304, filed in Docket No. CP07-48-000 an application pursuant to section 7(b) of the Natural Gas Act (NGA) for permission and approval to abandon the Clay Center Compressor Station located in Clay County, Nebraska, by sale, to the Clay County Historical Society of Clay County, Nebraska, all as more fully set forth in the application.

Copies of this filing are on file with the Commission and are available for public inspection. This filing may also be viewed on the Web at http://www.ferc.gov using the “eLibrary” link. Enter the docket number excluding the last three digits in the docket number field to access the document. For assistance, please contact FERC Online Support at FERCOnlineSupport@ferc.gov or toll-free at (866) 208-3676, or for TTY, contact (202) 502-8659.

Any questions concerning this request may be directed to Skip George, Manager of Regulatory, Kinder Morgan Interstate Gas Transmission LLC, P.O. Box 281304, Lakewood, Colorado 80228-8304, or call (303) 914-4969.

Specifically, in 1956, KMIGT was authorized to install and operate, among other things, three 125-horsepower compressor units with auxiliary equipment at its Clay Center Compressor Station. The subject compressor units, a total of 375 installed horsepower, are the only units located at Clay Center. KMIGT states that the compression of natural gas at the Clay Center Compressor Station has not been utilized since August 1995. KMIGT states that the need for compression at the Clay Center has been supplanted with the natural gas KMIGT receives through an existing third-party interconnect with Trailblazer Pipeline Company located in Clay County. Therefore, KMIGT proposes to abandon the compressor station and to remove the station from natural gas service.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages filings of comments, protests and interventions electronically via the Internet in lieu of paper. See, 18 CFR385.2001(a)(1)(iii) and the instructions on the Commission's Web site under the “e-filing” link.

If the Commission decides to set the application for a formal hearing before an Administrative Law Judge, the Commission will issue another notice describing that process. At the end of the Commission's review process, a final Commission order approving or denying a certificate will be issued.

Comment Date: January 26, 2007.

Magalie R. Salas,
Secretary.

[FR Doc. E6-22672 Filed 1-5-07; 8:45 am]

BILLING CODE 6717-01-P